DEPARTMENT OF HOMELAND SECURITY

Coast Guard

[Docket No. USCG-2010-0281]

Certificate of Alternative Compliance for the Ferry Boat CHARLEVOIX

AGENCY: Coast Guard, DHS.

ACTION: Notice.

SUMMARY: The Coast Guard announces that a Certificate of Alternative Compliance was issued for the ferry boat CHARLEVOIX as required by 33 U.S.C. 1605(c) and 33 CFR 81.18.

DATES: The Certificate of Alternative Compliance was issued on April 2, 2010.

ADDRESSES: The docket for this notice is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2010-0281 in the “Keyword” box, and then clicking “Search.”

FOR FURTHER INFORMATION CONTACT: If you have questions on this notice, call LCDR Wm. Erik Pickering, District Nine, Prevention Branch, U.S. Coast Guard, telephone 216-902-6050. If you have questions on viewing or submitting material to the docket, call Renee V. Wright, Program Manager, Docket Operations, telephone 202-366-9826.

SUPPLEMENTARY INFORMATION:

Background and Purpose

A Certificate of Alternative Compliance, as allowed under Title 33 of the Code of Federal Regulations, Parts 81 and 89, has been issued for the ferry boat CHARLEVOIX. Full compliance with 72 COLREGS and the Inland Rules Act would hinder the vessel's ability to operate as designed. Because of the design of the ferry boat CHARLEVOIX, operation of its whistle at the level required in Rule 34 (g) of 72 COLREGS and the Inland Rules Act (33 USC 2001 et. seq.) would subject passengers and crew to dangerous and unacceptable decibel levels. The National Institute for Occupational Safety and Health states that exposure to sounds over 85 decibels for periods greater than eight hours will cause permanent hearing damage. The crew on the ferry boat CHARLEVOIX works eight hour shifts. Thus, if the ferry boat CHARLEVOIX were to comply with Rule 34 (g) its crew would potentially suffer permanent hearing loss.

The Commandant, U.S. Coast Guard, certifies that full compliance with the Inland Rules Act would interfere with the normal functions/intent of the vessel and would not significantly enhance the safety of the vessel's operation. Requiring the vessel to sound a prolonged whistle/horn blast at the required decibel level prior to each departure (approximately every 5.3 minutes, in a 16 hour period/7 days per week operation) would subject the crew and passengers to unacceptable decibel levels, and not improve overall vessel safety.

The Certificate of Alternative Compliance allows for the reducing of the intensity of the required sound signal to 85 decibel when leaving the dock/berth during normal operations provided the following conditions are met: A secondary whistle must be installed that meets the requirements of Rule 34 (g) and be used when operating in restricted visibility as per Rule 35 or to reduce the risk of collision as per Rule 34 (d).

This notice is issued under authority of 33 U.S.C. 1605(c), and 33 CFR 81.18.

Dated: April 2, 2010.
L.W. Thomas,
Captain, U.S. Coast Guard, Chief, Inspections and Investigations Branch, By Direction of the Commander, Ninth Coast Guard District.

[FR Doc. 2010-9682 Filed 4-26-10; 8:45 am]

BILLING CODE 9110-04-P